DEPARTMENT OF VETERANS AFFAIRS

[OMB Control No. 2900-0825]

Agency Information Collection Activity Under OMB Review: The Veterans' Outcome Assessment (VOA) (Veteran Survey Interview)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before October 1, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0825” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0825” in any correspondence.

SUPPLEMENTARY INFORMATION: Authority: Public Law 112-239 Sec. 726.

Title:

a. Veterans Outcome Assessment—Baseline.

b. Veterans Outcome Assessment—Follow Up.

OMB Control Number: 2900-0825.

Type of Review: Reinstatement with change of a previously approved collection.

Abstract: The mental health outcomes information obtained through this new collection will be used by VA leadership, including those in the Offices of Mental Health Operations and Mental Health Services, Network offices, and VA Medical Centers. Such information on Veteran mental health outcomes is crucial to guide resource allocation and programmatic decisions for mental health programs and to intervene effectively to prevent individual adverse outcomes such as suicide, overdose deaths, and morbidities associated with mental illness and to support recovery-oriented treatment designed to improve functioning and reduce symptoms. The data will allow VA policy makers to reliably track national performance on a quarterly basis and to track VISN performance on a yearly basis. These data will reveal trends in outcomes over time and will help in pinpointing programs that are doing well in terms of patient outcomes, so that other programs can emulate their practices, as well as identifying those programs that are performing poorly so that steps can be taken to improve them. Results of the survey will be reported to Congress and will influence decisions on funding. The VOA will thus provide Veterans who are experiencing mental health problems with a direct voice in program evaluation and improvement. Summary data on performance also will be available on a public website, as mandated by the NDAA, to provide Veterans and their families with additional information for purposes of managing their mental health treatment and U.S. citizens with information regarding VA's mental health programs and Veterans satisfaction with their care.

An agency may not conduct or sponsor, and a person is not required to respond to a collection of information unless it displays a currently valid OMB control number. The Federal Register Notice with a 60-day comment period soliciting comments on this collection of information was published at 82 FR 28943 on June 26, 2017, pages 28943 and 28944.

Affected Public: Individuals and households.

Estimated Annual Burden: 11,236 hours.

Estimated Average Burden per Respondent: .42 hours.

Frequency of Response: Annually.

Estimated Number of Respondents: 26,752.

By direction of the Secretary.
Cynthia D. Harvey-Pryor,
Department Clearance Officer, Office of Quality, Privacy and Risk, Department of Veterans Affairs.

[FR Doc. 2018-18911 Filed 8-30-18; 8:45 am]

BILLING CODE 8320-01-P